FEDERAL COMMUNICATIONS COMMISSION

47 CFR Part 90

[GN Docket No. 93-252, PR Docket No. 93-144, PR Docket No. 89-553; FCC 00-106]

Commercial Mobile Radio Service (CMRS)

AGENCY: Federal Communications Commission.

ACTION: Final rule; dismissing various petitions for reconsideration.

SUMMARY: This document dismisses or denies fourteen of the fifteen petitions for reconsideration filed against an earlier Federal Communications Commission (Commission) order. The Commission takes this action because most of the issues raised in the petitions have been addressed in or rendered moot by action taken in other Commission orders. Other issues raised in the petitions are being considered in ongoing Commission proceedings. The Commission does, however, amend its rules to clarify the station identification requirements applicable to CMRS providers licensed under its private land mobile radio services rules.

DATES: Effective June 26, 2000.

FOR FURTHER INFORMATION CONTACT: Wilbert E. Nixon, Jr., Policy and Rules Branch, Commercial Wireless Division, Wireless Telecommunications Bureau, at (202) 418-7240.

SUPPLEMENTARY INFORMATION: In this document released on April 7, 2000, the Commission, resolves various petitions for reconsideration of Implementation of Sections 3(n) and 332 of the Communications Act, Regulatory Treatment of Mobile Services, GN Docket No. 93-252, Third Report and Order, 59 FR 59945 (November 21, 1994) (CMRS Third Report and Order). The primary goal of the CMRS Third Report and Order was to establish the regulatory framework for implementing the mandate of the Omnibus Budget Reconciliation Act of 1993, Pub. L. No. 103-66, Title VI § 6002(b), 107 Stat. 312, 392 (1993) (1993 Budget Act), to treat “substantially similar” CMRS providers in a similar regulatory manner. In the five years since the release of the CMRS Third Report and Order, this task has been accomplished through the revision of scores of Commission rule sections in several Commission proceedings. In fact, the majority of the issues raised in the petitions have been addressed in or rendered moot by Commission action taken in Amendment of Part 90 of the Commission's Rules to Facilitate Future Development of SMR Systems in the 800 MHz Frequency Band, PR Docket No. 93-144, Implementation of Sections 3(n) and 322 of the Communications Act—Regulatory Treatment of Mobile Services, GN Docket No. 93-252, Implementation of Section 309(j) of the Communications Act—Competitive Bidding, PP Docket No. 93-253, First Report and Order, Eighth Report and Order and Second Further Notice of Proposed Rulemaking, 61 FR 6212 (February 16, 1996) (800 MHz Report and Order), Amendment of Parts 0, 1, 13, 22, 24, 26, 27, 80, 87, 90, 95, 97, and 101 of the Commission's Rules to Facilitate the Development and Use of the Universal Licensing System in the Wireless Telecommunications Service, WT Docket No. 98-20, Report and Order, 63 FR 68904 (December 14, 1998) (ULS Report and Order), and other Commission orders released subsequent to the release of the CMRS Third Report and Order. Other issues raised in the petitions are being considered in ongoing Commission proceedings. For these reasons, with one exception, the Commission dismisses or denies all of the pending petitions for reconsideration. The Commission does, however, amend §§ 90.425 and 90.647 of our rules to clarify the station identification requirements applicable to CMRS providers licensed under part 90. The amended rule language appears below.

This Order (FCC 00-106), adopted March 17, 2000 and released on April 7, 2000, is available for inspection and copying during normal business hours in the FCC Reference Center, 445 Twelfth Street, SW, Washington, DC. The complete text may be purchased from the Commission's copy contractor, International Transcription Service, Inc. 1231 20th Street, NW, Washington DC 20036 (202) 857-3800. The document is also available via the Internet at http://www.fcc.gov/Bureaus/Wireless/

Orders/.

I. Final Regulatory Flexibility Certification

1. Final Regulatory Flexibility Certification. In this Memorandum Opinion and Order on Reconsideration, we amend §§ 90.425 and 90.647(d) of the Commission's rules as set forth in the Rule Changes below. The amended rules clarify that all part 90 CMRS providers licensed by geographic area are exempt from station identification requirements, and that other part 90 CMRS providers need comply only with the streamlined station identification requirements of § 90.425(e). Specifically, the amendments clarify that station identification need only occur once an hour instead of once every 15 minutes and that the affected CMRS providers need not comply with other detailed technical requirements. We therefore certify, pursuant to the Regulatory Flexibility Act, that the rules adopted in this Order will not have a significant economic impact on a substantial number of small entities.

2. The Commission will send a copy of this Memorandum Opinion and Order on Reconsideration, including specifically a copy of this final certification, in a report to Congress pursuant to the Small Business Regulatory Enforcement Fairness Act of 1996, see 5 U.S.C. 801(a)(1)(A). In addition, the Memorandum Opinion and Order on Reconsideration and this certification will be sent to the Chief Counsel for Advocacy of the Small Business Administration, and will be published in the Federal Register. See 5 U.S.C. 605(b).

II. Ordering Clauses

3. Accordingly, It is Ordered, pursuant to Sections 4(i), 303(r), 309(j), 332, and 405 of the Communications Act of 1934, as amended, 47 U.S.C. 154(i), 303(r), 309(j), 332, and 405, and Section 1.429(i) of the Commission's rules, 47 CFR 1.429(i), that the petition for reconsideration or clarification filed by American Mobile Telecommunications Association, Inc. IS GRANTED to the extent that American Mobile Telecommunications Association, Inc. seeks clarification of § 90.425 of the Commission's rules.

4. It is further Ordered that in all other respects, the petitions for reconsideration and/or clarification of the CMRS Third Report and Order in GN Docket No. 93-252 discussed herein are dismissed to the extent they are identified herein as moot, and otherwise are denied.

5. It is Further Ordered that the Commission's Consumer Information Bureau, Reference Information Center, shall send a copy of this Memorandum Opinion and Order on Reconsideration, including the Final Regulatory Flexibility Certification, to the Chief Counsel for Advocacy of the Small Business Administration.

List of Subjects in 47 CFR Part 90

Administrative practice and procedure, Business and industry, Reporting and recordkeeping requirements.

Federal Communications Commission.
Deputy Secretary.
William F. Caton,

Rule Changes

As discussed in the preamble, 47 CFR Part 90 is amended as follows:

PART 90—PRIVATE LAND MOBILE RADIO SERVICES

1. The authority citation for Part 90 continues to read as follows:

Authority: Secs. 4(i), 11, 303(g), 303(r), and 332(c)(7) of the Communications Act of 1934, as amended, 47 U.S.C. 154(i), 161, 303(g), 303(r), 332(c)(7).

2. Section 90.425 is amended by revising paragraphs (a) introductory text and (e)(1) to read as follows:

§ 90.425 Station identification.

* * * * *

(a) Identification procedure. Except as provided for in paragraphs (d) and (e) of this section, each station or system shall be identified by the transmission of the assigned call sign during each transmission or exchange of transmissions, or once each 15 minutes (30 minutes in the Public Safety Pool) during periods of continuous operation. The call sign shall be transmitted by voice in the English language or by International Morse Code in accordance with paragraph (b) of this section. If the station is employing either analog or digital voice scrambling, or non-voice emission, transmission of the required identification shall be in the unscrambled mode using A3E, F3E or G3E emission, or International Morse, with all encoding disabled. Permissible alternative identification procedures are as follows:

* * * * *

(e) * * *

(1) Station identification will not be required for 929-930 MHz nationwide paging licensees or MTA or EA-based SMR licensees. All other CMRS stations will be required to comply with the station identification requirements of this paragraph.

3. Section 90.647 is amended by adding a paragraph (d) to read as follows:

§ 90.647 Station identification.

* * * * *

(d) Notwithstanding the requirements set forth in this paragraph, systems operated by geographic area CMRS licensees are subject only to the station identification requirements of § 90.425(e).

[FR Doc. 00-10354 Filed 4-25-00; 8:45 am]

BILLING CODE 6712-01-P